DEPARTMENT OF HOMELAND SECURITY

U.S. Citizenship and Immigration Services

Agency Information Collection Activities: InfoPass System; New Information Collection; Comment Request

ACTION: 60-Day Notice of Information Collection Under Review: InfoPass System; OMB Control No. 1615-NEW.

The Department of Homeland Security, U.S. Citizenship and Immigration Services (USCIS) has submitted the following information collection request for review and clearance in accordance with the Paperwork Reduction Act of 1995. The information collection is published to obtain comments from the public and affected agencies. Comments are encouraged and will be accepted for sixty days until September 28, 2009.

Written comments and suggestions regarding items contained in this notice, and especially with regard to the estimated public burden and associated response time should be directed to the Department of Homeland Security (DHS), USCIS, Chief, Regulatory Products Division, Clearance Office, 111 Massachusetts Avenue, NW., Suite 3008, Washington, DC 20529-2210. Comments may also be submitted to DHS via facsimile to 202-272-8352, or via e-mail at rfs.regs@dhs.gov. When submitting comments by e-mail, please add the USCIS File Number (OMB-48) in the subject box.

Written comments and suggestions from the public and affected agencies should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: New Information collection.

(2) Title of the Form/Collection: InfoPass System.

(3) Agency form number, if any, and the applicable component of the Department of Homeland Security sponsoring the collection: No Agency Form Number; File No. OMB-48. U.S. Citizenship and Immigration Services.

(4) Affected public who will be asked or required to respond, as well as a brief abstract: Primary: Individuals or Households. The InfoPass system allows an applicant or petitioner to schedule an interview appointment with USCIS through USCIS' Internet Web site.

(5) An estimate of the total number of respondents and the amount of time estimated for an average respondent to respond: 1,043,319 responses at 6 minutes (.10) per response.

(6) An estimate of the total public burden (in hours) associated with the collection: 104,332 annual burden hours.

If you need a copy of the information collection instrument, please visit the Internet Web site at: http://www.regulations.gov/search/index.jsp.

We may also be contacted at: USCIS, Regulatory Products Division, 111 Massachusetts Avenue, NW., Suite 3008, Washington, DC 20529-2210, Telephone number 202-272-8377.

Dated: July 23, 2009.
Stephen Tarragon,
Deputy Chief, Regulatory Products Division, U.S. Citizenship and Immigration Services.

[FR Doc. E9-17894 Filed 7-27-09; 8:45 am]

BILLING CODE 9111-97-P